DEPARTMENT OF COMMERCE

Patent and Trademark Office

[Docket No.: PTO-P-2007-0049]

Change in Publication Format of Patent and Trademark Office Notices and Changes in Display of Patent and Trademark Office Notices in Electronic Official Gazette

AGENCY: United States Patent and Trademark Office, Commerce.

ACTION: Notice.

SUMMARY: The United States Patent and Trademark Office (USPTO) is discontinuing the separate weekly publication in paper form of Patent and Trademark Office notices, and the annual publication in paper form of the consolidated listing of notices pertaining to USPTO practices and procedures. In addition, notice is hereby given that the weekly electronic Official Gazette of the United States Patent and Trademark Office—Patents (the eOG:P) will display the Patent and Trademark Office notices with volume/page numbers, and the last weekly eOG:P of each calendar year will include the annual publication of consolidated notices pertaining to USPTO practices and procedures.

DATES: The last separate weekly publication in paper form of Patent and Trademark Office notices will be December 25, 2007. The last annual publication in paper form of the consolidated listing of notices pertaining to USPTO practices and procedures will be December 25, 2007. Volume/page numbers will be displayed in the notices in the weekly eOG:P beginning January 1, 2008. The first annual publication in the eOG:P of the consolidated notices pertaining to USPTO practices and procedures will be December 30, 2008.

FOR FURTHER INFORMATION CONTACT: Electronic Information Products Division at (571) 272-5600 or e-mail at IPD@uspto.gov.

SUPPLEMENTARY INFORMATION: In accordance with 35 U.S.C. 10 and the Presidential E-Government Initiatives to utilize technology in ways that will improve how Federal Agencies serve the public, the USPTO will begin electronically publishing the weekly Patent and Trademark Office notices in 2008. The separate weekly publication in paper form of the Patent and Trademark Office notices will be discontinued after December 25, 2007.

In the period since the last paper version of the weekly Official Gazette on September 24, 2002, the separate weekly paper publication of the notices has shown the notices with volume/page numbers while the display of the notices in the weekly eOG:P has not. Beginning January 1, 2008, the volume/page numbers that have been shown in the separate weekly paper publication of the notices will be carried forward to the notices as they are displayed in the weekly eOG:P. The presence of volume/page numbers in the notices as they are displayed in the weekly eOG:P will enhance the readability of the electronic notices and will facilitate citations of them.

As with the weekly Patent and Trademark Office notices, the annual publication of the consolidated listing of notices pertaining to USPTO practices and procedures will occur electronically, not in paper, beginning in 2008. The last listing of consolidated notices in paper form will be published December 25, 2007. Thereafter the last weekly eOG:P of each calendar year will include the consolidated listing of notices pertaining to USPTO practices and procedures. The first such annual publication of the consolidated notices in the eOG:P will take place December 30, 2008.

The eOG:P displaying the weekly notices with volume/page numbers will be available on the USPTO Web site at http://www.uspto.gov/web/patents/patog each Tuesday beginning January 1, 2008.

The first annual publication in the eOG:P of the consolidated notices pertaining to USPTO practices and procedures will be available on the USPTO Web site at http://www.uspto.gov/web/patents/patog on December 30, 2008.

The eOG:P on CD-ROM with the above-described changes will be published and distributed close to issue date. The eOG:P CD-ROM product with the above-described changes will be available from the Information Products Division, Chief Information Officer, United States Patent and Trademark Office, as an annual subscription for $460 per year and as single copies for $20 per issue.

Dated: December 18, 2007.
Jon W. Dudas,
Under Secretary of Commerce for Intellectual Property and Director of the United States Patent and Trademark Office.

[FR Doc. E7-24961 Filed 12-21-07; 8:45 am]

BILLING CODE 3510-16-P